RAILROAD RETIREMENT BOARD

Proposed Collection; Comment Request

SUMMARY: In accordance with the requirement of section 3506(c)(2)(A) of the Paperwork Reduction Act of 1995 which provides opportunity for public comment on new or revised data collections, the Railroad Retirement Board (RRB) will publish periodic summaries of proposed data collections.

Comments are invited on: (a) Whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection:

Application for Employee Annuity Under the Railroad Retirement Act; OMB 3220-0002 section 2 of the Railroad Retirement Act (RRA), provides for payment of age and service, disability and supplemental annuities to qualified employees. The basic requirements for a regular employee annuity retirement annuity under the RRA is 120 months (10 years) of creditable railroad service. Benefits then become payable after the employee meets certain other requirements, which depend, in turn, on the type of annuity payable. The requirements relating to the annuities are prescribed in 20 CFR parts 216, and 220.

The forms currently used by the RRB to collect information needed for determining entitlement to and the amount of, an employee retirement annuity follow: Form AA-1, Application for Employee Annuity Under the Railroad Retirement Act, is completed by an applicant for either an age and service or disability annuity. It obtains information about an applicant's marital history, work history, military service, benefits from other governmental agencies and railroad pensions. Form AA-1d, Application for Determination of Employee Disability, is completed by an employee who is filing for a disability annuity under the RRA, or a disability freeze under the Social Security Act for early Medicare based on a disability. Form G-204, Verification of Workers Compensation/Public Disability Benefit Information, is used to obtain and verify information concerning worker's compensation or public disability benefits that are or will be paid by a public agency to a disabled railroad employee.

The RRB is proposing the addition of an electronic equivalent of Form AA-1 to the collection. The information collected will include all information obtained on the current form AA-1. The electronic equivalent, which will be available for completion over the Internet through the RRB's web-site, will also, depending on circumstances, incorporate information currently collected on RRB Form AA-6, Employee Application for Medicare, Form AA-7, Spouse/Divorce Spouse Application for Medicare, Form AA-8, Widow/Widower Application for Medicare, (OMB approved 3220-0082), Form G-19L, Annual Earnings Questionnaire, Last Pre-Retirement Non-Railroad Employment (OMB approved 3220-0179), and Form G-208, Public Service Pension Questionnaire (OMB approved 3220-0136). Future plans will include the incorporation of information currently collected on RRB Forms AA-4, Self-Employment and Substantial Service Questionnaire (OMB approved 3220-0138) G-209, Employee Non-Covered Service Pension Questionnaire (OMB approved 3220-0154) and G-319 Statement Regarding Family and Earnings for Special Guaranty Computation and G-320, Statement By Employee Annuitant Regarding Student Age 18-19 (OMB approved (3220-0083) into the process.

Upon completion of the electronic AA-1 process, the applicant will receive Form AA-1cert for review and signature. The AA-1cert will summarize information provided by/or verified by the applicant during the application process. Implementation of the AA-1cert will largely eliminate the need for the manual version of Form AA-1. However, the RRB will continue to use the manual version of the AA-1 in instances where the RRB representative is unable to contact the applicant in-person or by telephone i.e., the applicant lives in another country and/or does not wish to use the Internet.

The RRB estimates the burden for the collection as follows:

Estimated Burden
Form # | Estimated annual responses | Estimated completion time (per response) | Estimated annual burden (hours)
AA-1 manual (without assistance) | 100 | 62 | 103
AA-1cert (Internet without assistance) | 650 | 62 | 672
AA-1cert (with assistance) | 12,650 | 37 | 7,801
AA-1d (manual without assistance) | 50 | 60 | 50
AA-1d (manual) (with assistance) | 5,650 | 35 | 3,296
G-204 | 50 | 15 | 13
Total | 19,100 |  | 11,935

The RRB proposes no changes to manual Form AA-1, Form AA-1d and Form G-204. Completion is required to obtain a benefit. One response is requested of each respondent.

Additional Information or Comments

To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of this notice.

Chuck Mierzwa,
Clearance Officer.

[FR Doc. 01-29054 Filed 11-20-01; 8:45 am]

BILLING CODE 7905-01-M